DEPARTMENT OF THE INTERIOR

National Park Service

Notice of Intent to Repatriate Cultural Items in the Possession of the Brooklyn Museum of Art, Brooklyn, NY

AGENCY: National Park Service, Interior.

ACTION: Notice.

Notice is hereby given in accordance with provisions of the Native American Graves Protection and Repatriation Act (NAGPRA), 43CFR 10.10 (a)(3), of the intent to repatriate cultural items in the possession of the Brooklyn Museum of Art, Brooklyn, NY, that meet the definition of “sacred objects” and “objects of cultural patrimony” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The 93 cultural items are 22 Hopi spirit friends or Katsina masks (Wupamo, Hahea, Wawae, 3 Tasap, 2 Tacheukti, Kaletaka, Honau, Sikya Tihu, 2 Anakatsinamaana, Chakwin, Sio Humis, a headdress for Alosaka Katsina, and 6 unnamed spirit friends), 13 mask attachments, 6 Sio Humis headdress frames, 1 katsina doll, 16 Mazrau society dance items, 9 Snake society dance items, 1 Mazrau Society ceremonial water gourd from Walpi, 1 three-piece fiddle, a bow and several arrows, 8 prayer sticks, lightening sticks and lightening stick frame, 3 pipes, 4 Monkoho chief batons, 1 Hidden Ball game, and 1 fiber ring.

Between 1903 and 1905, Stewart Culin, the curator at the Brooklyn Museum of Art, purchased the katsina masks, Snake society dance items, and Hidden Ball game from Hopi individuals in Hopi villages in Arizona.

In 1904, Mr. Culin purchased the 16 Mazrau society dance items, 1 Mazrau Society ceremonial water gourd from Walpi, 1 three-piece fiddle, a bow and several arrows, 8 prayer sticks, lightening sticks and lightening stick frame, 3 pipes, 4 Monkoho chief batons, and 1 fiber ring from dealers in Chinle and Holbrook, AZ.

During consultation, representatives of the Hopi Tribe of Arizona identified these objects as sacred objects and objects of cultural patrimony. However, representatives of the Hopi Tribe of Arizona did not feel it appropriate to name the ceremonies or functions of these specific objects. Although Brooklyn Museum of Art accession records do not indicate an explicit ceremonial use of these objects, the Brooklyn Museum of Art has no evidence to the contrary. Accordingly, the Brooklyn Museum of Art accepts the determinations of the representatives of the Hopi Tribe for these objects.

Based on accession information and on consultation with Hopi representatives, these 93 cultural items are determined to be affiliated with the Hopi Tribe of Arizona. Representatives of the Hopi Tribe of Arizona, acting on behalf of the Katsinmomngwit, the Maraunomngwit, and the Lenmimngwit Society (Hopi traditional religious leaders) have stated that these 93 cultural items are needed by traditional Hopi religious leaders for the practice of traditional Native American religion by their present day adherents; and that these items have ongoing historical, traditional, and cultural importance central to the culture itself and could not be alienated by any individual.

Based on the above-mentioned information, officials of the Brooklyn Museum of Art have determined that, pursuant to 43 CFR 10.2 (d)(3), these 93 cultural items are specific ceremonial objects needed by traditional Native American religious leaders for the practice of traditional Native American religions by their present-day adherents. Officials of the Brooklyn Museum of Art also have determined that, pursuant to 43 CFR 10.2 (d)(4), these cultural items have ongoing historical, traditional, and cultural importance central to the tribe itself, and are of such central importance that they may not be alienated, appropriated, or conveyed, by any individual. Lastly, officials of the Brooklyn Museum of Art have determined that, pursuant to 43 CFR 10.2 (e), there is a relationship of shared group identity that can be reasonably traced between these sacred objects/objects of cultural patrimony and the Hopi Tribe of Arizona.

This notice has been sent to officials of the Hopi Tribe of Arizona and the Pueblo of Zuni Representatives of any other Indian tribe that believes itself to be culturally affiliated with these sacred objects/objects of cultural patrimony should contact Kate Portada, NAGPRA Project Coordinator, Brooklyn Museum of Art, 200 Eastern Parkway, Brooklyn, NY 11238, telephone (718) 638-5000, extension 524, before December 5, 2001. Repatriation of these sacred objects/objects of cultural patrimony to the Hopi Tribe may begin after that date if no additional claimants come forward.

Dated: September 21, 2001.
John Robbins,
Assistant Director, Cultural Resources Stewardship and Partnerships.

[FR Doc. 01-27707 Filed 11-2-01; 8:45 am]

BILLING CODE 4310-70-S